DEPARTMENT OF AGRICULTURE

Submission for OMB Review; Comment Request

March 11, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EPO. GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Long Term Contracting.

OMB Control Number: 0560-NEW.

Summary of Collection: The Long Term Contracting System (LTCS) is a web-based application that streamlines the bid entry and evaluation functions for Long-term, Indefinite-Delivery, Indefinite-Quality contracts. The Kansas City Commodity Office (KCCO) will generally issue invitations for bids to purchase commodities for domestic feeding program on an annual, semi-annual, monthly, or quarterly basis; however, invitations may be issued more frequently depending on various program requirements. Bid offers will be received, evaluated, and awarded within the LTCS.

Need and Use of the Information: The information collected will be processed through the LTCS bid evaluation program to determine optimal awards. KCCO will analyze the results of the bid evaluation and award contracts to the eligible, responsible and responsive bidders whose offers are most advantageous to USDA in terms of the lowest overall cost. The information is required to procure agricultural commodities for domestic feeding programs. Without the information, KCCO could not meet program requirements.

Description of Respondents: Business or other for-profit; not-for-profit institutions; Federal Government.

Number of Respondents: 20.

Frequency of Responses: Recordkeeping; reporting: quarterly; semi-annually; annually; monthly; on occasion.

Total Burden Hours: 80.

Ruth Brown,
Departmental Information Collection Clearance Officer.

[FR Doc. 05-5180 Filed 3-15-05; 8:45 am]

BILLING CODE 3410-05-M